DEPARTMENT OF AGRICULTURE

Forest Service

West Bear Vegetation Management Project; Wasatch-Cache National Forest, Summit County, UT

AGENCY: Forest Service, USDA.

ACTION: Notice of intent to prepare environmental impact statement.

SUMMARY: The Forest Supervisor of the Wasatch-Cache National Forest gives notice of the agency's intent to prepare an environmental impact statement on a proposal to manage forest vegetation in the Bear River drainage. The headwaters of this drainage are located on the west end of the Evanston Ranger District and are located in Utah about 35 miles south of Evanston, Wyoming in the Uinta Mountain Range. The portion of this drainage this is National Forest land and is being considered for treatment contains approximately 13,000 acres, primarily in the West Fork of the Bear River drainage.

The proposed action was developed to address some of the opportunities identified in the West Fork Bear River Assessment. It includes silvicultural treatments to restore forest age class diversity, species composition, and forest stand structure. These proposed treatments included the use of prescribed fire as well as timber harvest. New roads would be constructed to provide access for timber harvest in portions of the area. The volume of timber and amount of new road construction will likely vary among alternatives. The proposal also includes reconstruction or relocation of some poorly located existing roads and improvement or rehabilitation of some existing dispersed recreation sites in the area.

The purpose of and need for this proposal includes the following:

1. To restore forest age class diversity, species composition, and forest stand structure that were likely to have occurred historically in this drainage. Fire suppression and past timber harvesting have resulted in prevalence of mature and old forest in portions of the area, forest succession from seral species to subalpine fir, and dense forest stand conditions not consistent with the historic range of conditions. These conditions have adverse effects on habitat for some wildlife species as well increasing the risk of forest insect epidemics. The project would restore balance to forest conditions reducing the effects of past human activities on some species of wildlife and maintain or rector properly functioning conditions to forest lands in the area.

2. To reduce adverse environmental effects of the existing road system. Many of the roads in this drainage constructed or developed prior to the 1970's are poorly located and designed. Portions need to be relocated or redesigned to reduce sediment delivery to stream channels.

3. To provide timber for harvest from suitable lands contributing opportunities for industry and communities in Utah and Wyoming that are dependent on national forest timber for a portion of their supply and economy.

4. To improve and maintain or/rehabilitate existing dispersed campsites. Some of the dispersed campsites that have developed over the years are on poor locations with poor access roads. There is a need to harden or redesign some sites and to close and rehabilitate other sites and decommission improperly located access roads to reduce damage to soils, vegetation, and streams.

The Forest Service invites comments and suggestions on the scope of the analysis to be included in the draft environmental impact statement (DEIS). In addition, the Forest Service gives notice that it is beginning a full environmental analysis and decision-making process for this proposal so that interested or affected people may know how they can participate in the environmental analysis and contribute to the final decision. The first public “scoping” open house is scheduled for March 28, 2002, in Evanston, Wyoming, at the Historic Railroad Depot on front Street in Evanston, Wyoming, from 4:00 to 7:00 P.M. The purpose of this open house is to learn what issues members of the public or interested agencies believe are involved in the proposal. Knowledge of the issues will help establish the scope of the Forest Service environmental analysis and define the kind and range of alternatives to be considered. Forest Service officials wild describe and explain the proposed actions and the process of environmental analysis and disclosure to be followed in evaluating this proposal. The Forest Service welcomes any public comments on the proposal.

DATES: Comments concerning the scope of the analysis should be received in writing by April 19, 2002.

ADDRESSES: Send written comments to Stephen Ryberg, District Ranger, Evanston, WY 82930.

FOR FURTHER INFORMATION CONTACT: Larry Johnson, Environmental Planner, (307) 789-3194, or Kent O'Dell, Timber Management Coordinator, (307) 782-6555.

SUPPLEMENTARY INFORMATION: The proposal to manage forest vegetation in the Bear River drainage includes timber harvesting, prescribed burning, construction and reconstruction of roads, and hardening, rehabilitating or relocating dispersed campsites and their access roads. There are a variety of forest cover types in this drainage, including spruce/fir, mixed conifer, lodgepole pine, mixed conifer and aspen, and pure aspen. Proposed silvicultural prescriptions include selective management in the spruce/fir and mixed conifer, thinning and small patch cuts in the lodgepole pine, and conifer removal combined with prescribed fire in the mixed conifer/aspen and pure aspen forest cover types.

Proposed new road construction would be limited to that needed for access for management activities. Most of these roads would be closed or decommissioned following management activities. Several of these roads may be opened for public use to replace existing roads that would be decommissioned. There is no proposed road construction in inventoried roadless areas.

Proposed reconstruction or relocation of existing roads would emphasize improving design of the roads near stream crossings and relocating or improving drainage where the roads are near stream channels.

Proposed hardening, redesign, or relocation of dispersed campsites and their access roads would be emphasized where these sites or their access roads are resulting in soil erosion, especially near water bodies.

The decision to be made is whether to implement the proposed activities listed above.

The Wasatch-Cache National Forest Land and Resource Management Plan provides standards and guides for forest and road management. This direction is located in Chapter IV under the Whitney Management Area and under Forest-wide Standards and Guides. The proposed action is consistent with the Forest Plan.

A U.S. Army Corps of Engineers “404 Permit” for dredging and filling waters and/or wetlands will be required for any road work in stream channels or riparian areas. A determination of effects on Canada lynx will be required from the U.S. Fish and Wildlife Service. The Forest Service will request the U.S. Army Corps and U.S. Fish and Wildlife Service to cooperate in the environmental analysis, and may request cooperation from other State or Federal agencies.

The Deciding Official will be Tom Tidwell, Forest Supervisor, Wasatch-Cache National Forest, 8236 Federal Building, 125 South State Street, Salt Lake City, UT 84138.

A draft environmental impact statement is expected to be published in 2002, with public comment on the draft material requested for a period of 45 days, and completion of a final environmental impact statement later in 2002.

The 45 day public comment period on the draft environmental impact statement will commence on the day the Environmental Protection Agency publishes a “Notice of Availability” in the Federal Register.

The Forest Service believes it is important to give reviewers notice at this early stage of several court rulings related to public participation in the environmental review process. First, reviewers of draft environmental impact statements must structure their participation in the environmental review of the proposed so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. (Reviewers may wish to refer to the Council on Environmental Quality Regulations for implementing the procedural provisions of the National Environmental Policy Act at 40 CFR 1503.3 in addressing these points.) Please note that comments you make on the draft environmental impact statement will be regarded as public information.

Dated: March 14, 2002.
Tom Tidwell,
Forest Supervisor.

[FR Doc. 02-6677 Filed 3-19-02; 8:45 am]

BILLING CODE 34210-11-M